NATIONAL SCIENCE FOUNDATION

Advisory Committee for Polar Programs; Notice of Meeting

In accordance with Federal Advisory Committee Act (Pub. L. 92-463, as amended), the National Science Foundation announces the following meeting.

Name: Advisory Committee for Polar Programs (1130).

Date/Time: May 10, 2004: 8 a.m. to 5 p.m. May 11, 2004: 8 a.m. to 3 p.m.

Place: National Science Foundation, 4201 Wilson Blvd., Room: 1235 Arlington, VA.

Type of Meeting: Open.

Contact Person: Altie Metcalf, Office of Polar Programs (OPP), National Science Foundation, 4201 Wilson Boulevard, Arlington, VA 22230. (703) 292-8030.

Minutes: May be obtained from the contact person list above.

Purpose of Meeting: To advise NSF on the impact of its policies, programs and activities on the polar research community; to provide advice to the Director of OPP on issues related to long range planning, and to form ad hoc subcommittees to carry out needed studies and tasks.

Agenda: Staff presentations on program updates; discussions of International Polar Year; and planning for 2004 Committee of Visitors.

Dated: March 31, 2004.
Susanne Bolton,
Committee Management Officer.

[FR Doc. 04-7756 Filed 4-5-04; 8:45 am]

BILLING CODE 7555-01-M